ENVIRONMENTAL PROTECTION AGENCY

[EPA-HQ-OPP-2010-0012; FRL-8827-5]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before July 8, 2010.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 0E7704. (EPA-HQ-OPP-2010-0311). Interregional Research Project Number 4 (IR-4), 681 US Highway #1 South, North Brunswick, NJ 08902, proposes to establish a tolerance in 40 CFR part 180 for residues of the insecticide thiacloprid ([3-[(6-chloro-3-pyridinyl)methyl]-2-thiazolidinylidene] cyanamide), in or on fruit, stone, group 12 at 0.5 parts per million (ppm). The analytical method for determining residues in stone fruit and peppers is specific for thiacloprid and metabolites containing the intact thiazolidine ring and utilizes high performance liquid chromatography (HPLC) with electrospray tandem mass spectrometry (MS/MS)-detection. Thiacloprid and its metabolites are stable in peppers and stone fruit commodities for at least 10 months when the commodities are frozen. Contact: Andrew Ertman, (703) 308-9367, e-mail address: ertman.andrew@epa.gov.

2. PP 0F7685. (EPA-HQ-OPP-2007-0099). Nichino America, Inc., 4550 New Linden Hill Road, Suite 501, Wilmington, DE 19808, proposes to establish a tolerance in 40 CFR part 180 for residues of the insecticide flubendiamide, (N²-[1,1-dimethyl-2-(methylsulfonyl)ethyl]-3-iodo- N¹-[2-methyl-4-[1,2,2,2-tetrafluoro-1-(trifluoromethyl)ethyl]phenyl]-1,2-benzenedicarboxamide), in or on artichoke, globe, flower head at 1.6 ppm; low growing berry subgroup, crop subgroup 13-07G, except cranberry at 1.5 ppm; peanut, hay at 60 ppm; peanut, meal at 0.032 ppm; peanut, nutmeat at 0.02 ppm; peanut, refined oil at 0.04 ppm; pistachio at 0.06 ppm; small fruit vine climbing subgroup except fuzzy kiwifruit, crop subgroup 13-07F at 1.4 ppm; sorghum, grain, grain at 5.0 ppm; sugarcane, cane at 0.30 ppm; sunflower, seed at 4.5 ppm; and turnip, greens at 25 ppm. Independently validated, analytical methods for crop matrices have been submitted for measuring flubendiamide. Typically, plant matrices samples are extracted, concentrated, and quantified by liquid chromatography/MS/MS (LC/MS/MS) using deuterated internal standards. Contact: Carmen Rodia, (703) 306-0327, e-mail address: rodia.carmen@epa.gov.

3. PP 0F7688. (EPA-HQ-OPP-2010-0387). Gowan Company, 370 South Main Street, Yuma, AZ 85364, proposes to establish tolerances at 40 CFR part 180.484 for residues of the fungicide flutolanil [N-[3-(1-methylethoxy)phenyl]-2-(trifluoromethyl)benzamide], in or on beet, sugar at 0.5 ppm and beet, sugar, tops at 25 ppm. Residues of flutolanil and its M-4 metabolite in sugar beet roots, sugar beet tops, and processed commodities were quantitated by HPLC employing tandem mass spectrometric (MS/MS) detection. The analytical method used was the Xenos Analytical Method: XAM-65, entitled “LC/MS Determination of Flutolanil and its Metabolite (M-4) in Cotton Seed and Corn Grain,” dated December 18, 2000 with modifications dated January 20, 2009. Contact: Lisa Jones, (703) 308-9424, e-mail address: jones.lisa@epa.gov.

4. PP 0F7691. (EPA-HQ-OPP-2010-0250). Bayer CropScience, P.O. Box 12014, 2 T. W. Alexander Drive, Research Triangle Park, NC 27709, proposes to establish tolerances in 40 CFR part 180 for residues of the insecticide spiromesifen; 2-oxo-3-(2,4,6-trimethylphenyl)-1-oxaspiro(4,4)non-3-en-4-yl 3,3-dimethylbutanoate, and its enol metabolite; 4-hydroxy-3-(2,4,6-trimethylphenyl)-1-oxaspiro[4,4]non-3-en-2-one calculated as parent compound equivalents, in or on sorghum, grain at 0.8 ppm; sorghum, fodder at 1.3 ppm; sorghum, forage at 9.0 ppm; sorghum, aspirated grain fraction at 11.0 ppm; wheat, grain and the corresponding processed fractions flour, middlings, shorts, germ and bran at 0.1 ppm; wheat, forage at 19.0 ppm; wheat, hay at 16.0 ppm; wheat, straw at 4.5 ppm; and wheat, aspirated grain fraction at 30.0 ppm. Adequate analytical methodology using liquid chromatography/MS/MS (LC/MS/MS) detection is available for enforcement purposes. Contact: Jennifer Gaines, (703) 305-5967, e-mail address: gaines.jennifer@epa.gov.

5. PP 0F7706. (EPA-HQ-OPP-2010-0311). Bayer CropScience LLC, 2 T. W. Alexander Drive, Research Triangle Park, NC 27709, proposes to establish a tolerance in 40 CFR part 180 for residues of the insecticide thiacloprid ([3-[(6-chloro-3-pyridinyl)methyl]-2-thiazolidinylidene] cyanamide), in or on pepper (bell and non-bell) at 1.1 ppm. The analytical method for determining residues in stone fruit and peppers is specific for thiacloprid and metabolites containing the intact thiazolidine ring and utilizes HPLC with electrospray tandem mass spectrometry (MS/MS)-detection. Thiacloprid and its metabolites are stable in peppers and stone fruit commodities for at least 10 months when the commodities are frozen. Contact: Andrew Ertman, (703) 308-9367, e-mail address: ertman.andrew@epa.gov.

6. PP 0F7707. (EPA-HQ-OPP-2010-0324). Syngenta Crop Protection, Inc., P.O. Box 18300, Greensboro, NC 27419, proposes to establish tolerances in 40 CFR part 180 for residues of the insecticide thiamethoxam (3-[(2-chloro-5-thiazolyl) methyl]tetrahydro-5-methyl-N-nitro-4H-1,3,5-oxadiazin-4-imine) (CAS Reg. No. 153719-23-4) and its metabolite [N-(2-chloro-thiazol-5-ylmethyl)-N'-methyl-N'-nitro-guanidine], in or on alfalfa, forage at 0.05 ppm and alfalfa, hay at 0.12 ppm. Syngenta Crop Protection, Inc., has submitted practical analytical methodology for detecting and measuring levels of thiamethoxam in or on raw agricultural commodities. This method is based on crop specific cleanup procedures and determination by liquid chromatography with either ultraviolet (UV) or MS detections. The limit of detection (LOD) for each analyte of this method is 1.25 nanogram (ng) injected for samples analyzed by UV and 0.25 ng injected for samples analyzed by MS, and the limit of quantification (LOQ) is 0.005 ppm for milk and juices, and 0.01 ppm for all other substrates. Contact: Julie Chao, (703) 308-8735, e-mail address: chao.julie@epa.gov.

7. PP 9F7528. (EPA-HQ-OPP-2009-0672). BASF Corporation, P.O. Box 13528, Research Triangle Park, NC 27709, proposes to establish a tolerance in 40 CFR part 180 for residues of the fungicide pyraclostrobin, carbamic acid, [2-[[[1-(4-chlorophenyl)-1H-pyrazol-3-yl]oxy]methyl]phenyl]methoxy-, methyl ester and its metabolite methyl-N-[[[1-(4-chlorophenyl) pyrazol-3-yl]oxy]o-tolyl] carbamate (BAS 500-3), expressed as parent compound, in or on alfalfa, forage at 10.0 ppm and alfalfa, hay at 30.0 ppm; and new tolerances for pyraclostrobin, carbamic acid, [2-[[[1-(4-chlorophenyl)-1H-pyrazol-3-yl]oxy]methyl]phenyl]methoxy-, methyl ester) and its metabolites convertible to 1-(4-chlorophenyl)-1H-pyrazol-3-ol (BAS 500-5) and 1-(3-chloro-4-hydroxyphenyl)-1H-pyrazol-3-ol (BAS 500-9), expressed as parent compound, in the animal commodities poultry, fat at 0.1 ppm; poultry, meat byproducts at 0.1 ppm; poultry, meat at 0.1 ppm; and eggs at 0.1 ppm. The method of analysis in plants is aqueous organic solvent extraction, column cleanup and quantitation by LC/MS/MS. The method of analysis in animals involves base hydrolysis, organic extraction, column cleanup and quantitation by LC/MS/MS or derivatization (methylation) followed by quantitation by gas chromatography/MS (GC/MS). Contact: John Bazuin, (703) 305-7381, e-mail address: bazuin.john@epa.gov.

Amended Tolerances

1. PP 0F7706. (EPA-HQ-OPP-2010-0311). Bayer CropScience LLC, 2 T. W. Alexander Drive, Research Triangle Park, NC 27709, proposes to amend 40 CFR 180.594 for residues of thiacloprid by revising the tolerance expression under (a) to read: Tolerances are established for residues of thiacloprid, including its metabolites and degradates. Compliance with the tolerance levels specified is to be determined by measuring only thiacloprid ([3-[(6-chloro-3-pyridinyl)methyl]-2-thiazolidinylidene] cyanamide). Contact: Andrew Ertman, (703) 308-9367, e-mail address: ertman.andrew@epa.gov.

2. PP 0F7685. (EPA-HQ-OPP-2007-0099). Nichino America, Inc., 4550 New Linden Hill Road, Suite 501, Wilmington, DE 19808, proposes to amend the tolerances in 40 CFR 180.639 for residues of the insecticide flubendiamide (N²-[1,1-dimethyl-2-(methylsulfonyl)ethyl]-3-iodo- N¹-[2-methyl-4-[1,2,2,2-tetrafluoro-1-(trifluoromethyl)ethyl]phenyl]-1,2-benzenedicarboxamide), in or on alfalfa, forage at 25.0 ppm; alfalfa, hay at 65.0 ppm; Brassica, head and stem, subgroup 5A at 4.0 ppm; Brassica, leafy greens, subgroup 5B at 25.0 ppm; cattle, fat at 0.8 ppm; cattle, kidney at 0.4 ppm; cattle, liver at 0.4 ppm; cattle, muscle at 0.1 ppm; eggs at 0.7 ppm; goat, fat at 0.8 ppm; goat, kidney at 0.4 ppm; goat, liver at 0.4 ppm; goat, muscle at 0.1 ppm; grain, aspirated fractions at 215.0 ppm; hog, fat at 0.15 ppm; hog, kidney at 0.06 ppm; hog, liver at 0.06 ppm; hog, muscle at 0.02 ppm; horse, fat at 0.8 ppm; horse, kidney at 0.4 ppm; horse, liver at 0.4 ppm; horse, muscle at 0.1 ppm; milk at 0.2 ppm; poultry, fat at 3.0 ppm; poultry, liver at 0.8 ppm; poultry, muscle at 0.1 ppm; sheep, fat at 0.8 ppm; sheep, kidney at 0.4 ppm; sheep, liver at 0.4 ppm; sheep, muscle at 0.1 ppm; sorghum, grain, forage at 13.0 ppm; and sorghum, grain, stover at 18.0 ppm. Independently validated, analytical methods for crop matrices have been submitted for measuring flubendiamide. Typically, plant matrices samples are extracted, concentrated, and quantified by liquid chromatography/MS/MS (LC/MS/MS) using deuterated internal standards. Contact: Carmen Rodia, (703) 306-0327, e-mail address: rodia.carmen@epa.gov.

3. PP 0F7696. (EPA-HQ-OPP-2010-0385). Syngenta Crop Protection, P.O. Box 18300, Greensboro, NC 27409, proposes to amend the tolerance in 40 CFR 180.532 for residues of the fungicide cyprodinil 2-pyrimidinamine, 4-cyclopropyl-6-methyl-N-phenyl, in or on fruit, pome, group 11 from 0.1 ppm to 1.7 ppm. Syngenta Crop Protection has developed and validated analytical methodology for enforcement purposes. This method (Syngenta Crop Protection Method AG-631B) has passed an Agency petition method validation for several commodities and is currently the enforcement method for cyprodinil. An extensive database of method validation data using this method on various crop commodities is available. Contact: Lisa Jones, (703) 308-9424, e-mail address: jones.lisa@epa.gov.

New Tolerance Exemptions

1. PP 0E7693. (EPA-HQ-OPP-2010-0330). FBSciences, Inc., 153 N. Main Street, Ste. 100, Collierville, TN 38017, proposes to establish an exemption from the requirement of a tolerance for residues of 2-methyl-2,4-pentanediol (CAS Reg. No. 107-41-5) when used as a pesticide inert ingredient in pesticide formulations. The petitioner believes no analytical method is needed because an exemption from the requirement of a tolerance is requested, therefore no field residue studies are required. Contact: Lisa Austin, (703) 305-7894, e-mail address: austin.lisa@epa.gov.

2. PP 0E7699. (EPA-HQ-OPP-2010-0275). Croda Inc., EPA Company No. 86095, 315 Cherry Lane, New Castle, DE 19720, proposes to establish an exemption from the requirement of a tolerance for residues of polymerized fatty acid esters with aminoalcohol alkoxylates (PFAEAA) under 40 CFR 180.910 pre- and post-harvest uses and 40 CFR 180.930 animal uses when used as a pesticide inert ingredient in pesticide formulations, including: (CAS Registration No. (CAS RN's)) supported under the following tolerance exemption descriptor “Fatty acids, unsaturated, dimers and/or trimers, esters with [alpha]-alkylaminoalkyl-[omega]-hydroxy poly (oxyethylene) or [alpha]-alkylaminoalkyl-[omega]-hydroxy poly (oxyethylene) poly (oxypropylene) copolymers where the poly (oxyethylene) content is 10-30 moles and the poly (oxypropylene) content is 0-20 moles, the resulting alkoxylated aminoalcohol esters are derived and limited to 2-(N,N-Dimethyl) aminoethanol, 2-(N,N-Dimethyl) aminopropanol, 2-(N,N-Diethyl) aminoethanol, 2-(N,N-Diethyl) aminopropanol, 2-Hydroxyethylmorpholine, and 2-Hydroxyethylpiperidine and have a minimum molecular weight (in amu) of 1,200”:

Dimethylaminoethanol, ethoxylated, reaction products with fatty acid dimers (CAS Reg. No. 1173188-38-9).

Dimethylaminoethanol, ethoxylated, propoxylated, reaction products with fatty acid dimers (CAS Reg. No. 1173188-42-5).

Diethylaminoethanol, ethoxylated, reaction products with fatty acid dimers (CAS Reg. No. 1173188-72-1).

Diethylaminoethanol, ethoxylated, propoxylated, reaction products with fatty acid dimers (CAS Reg. No. 1173188-75-4).

Dimethylaminoethanol, ethoxylated, reaction products with fatty acid trimers (CAS Reg. No. 1173188-49-2).

Dimethylaminoethanol, ethoxylated, propoxylated, reaction products with fatty acid trimers (CAS Reg. No. 1173189-17-7).

Diethylaminoethanol, ethoxylated, reaction products with fatty acid trimers (CAS Reg. No. 1173188-81-2).

Diethylaminoethanol, ethoxylated, propoxylated, reaction products with fatty acid trimers (CAS Reg. No. 1173188-83-4).

Hydroxyethylmorpholine, ethoxylated, reaction products with fatty acid dimers (CAS Reg. No. 1173189-00-8).

Hydroxyethylmorpholine, ethoxylated, propoxylated, reaction products with fatty acid dimers ( CAS Reg. No. 1173189-06-4).

Hydroxyethylpiperidine, ethoxylated, reaction products with fatty acid dimers (CAS Reg. No. 1173189-20-2).

Hydroxyethylpiperidine, ethoxylated, propoxylated, reaction products with fatty acid dimers (CAS Reg. No. 1173189-22-4).

Hydroxyethylmorpholine, ethoxylated, reaction products with fatty acid trimers (CAS Reg. No. 1173189-09-7).

Hydroxyethylmorpholine, ethoxylated, propoxylated, reaction products with fatty acid trimers (CAS Reg. No. 1173189-17-7).

Hydroxyethylpiperidine, ethoxylated, reaction products with fatty acid trimers (CAS Reg. No. 1173189-25-7).

Hydroxyethylpiperidine, ethoxylated, propoxylated, reaction products with fatty acid trimers (CAS Reg. No.1173189-28-0).

The petitioner believes no analytical method is needed because it is not required for the establishment of a tolerance exemption for polymeric inert ingredients. Contact: Deirdre Sunderland, (703) 603-0851, e-mail address: sunderland.deirdre@epa.gov.

3. PP 0E7702. (EPA-HQ-OPP-2010-0272). Clariant Corporation, 625 E. Catawba Ave, Mt. Holly, NC 28120, proposes to establish an exemption from the requirement of a tolerance for residues of 2-propenoic acid, 2-methyl-, C12-16-alkyl esters, telomers with 1-dodecanethiol, polyethylene-polypropylene glycol ether with propylene glycol monomethacrylate (1:1), and styrene 2,2 -(1,2-diazenediyl)bis[2-methylbutanenitrile]-initiated (CAS Reg. No. 950207-35-9) under 40 CFR 180.960 when used as a pesticide inert ingredient in pesticide formulations. Clariant Corporation, is petitioning that 2-Propenoic acid, 2-methyl-, C12-16-alkyl esters, telomers with 1-dodecanethiol, polyethylene-polypropylene glycol ether with propylene glycol monomethacrylate (1:1), and styrene, 2,2'-(1,2-diazenediyl)bis[2-methylbutanenitrile]-initiated be exempt from the requirement of a tolerance based upon the definition of a low-risk polymer under 40 CFR 723.250. Therefore, an analytical method to determine residues on treated crops is not relevant. Contact: Elizabeth Fertich, (703) 347-8560, e-mail address: fertich.elizabeth@epa.gov.

4. PP 9E7538. (EPA-HQ-OPP-2009-0066). Croda Inc., 315 Cherry Lane, New Castle, DE 19720, proposes to establish an exemption from the requirement of a tolerance for residues of alkoxylated glycerides used to formulate pesticides applied to growing crops or to raw commodities after harvest. Croda Inc., is petitioning that alkoxylated glycerides be exempt from the requirement of a tolerance based upon their compliance with the low risk polymer criteria per 40 CFR 723.250. Therefore, an analytical method to determine residues in raw agricultural commodities has not been proposed. No residue chemistry data or environmental fate data are presented in the petition as the Agency does not generally require some or all of the listed studies to rule on the exemption from the requirement of a tolerance for a low risk polymer inert ingredient. Contact: Kerry Leifer, (703) 308-8811, e-mail address: leifer.kerry@epa.gov.

List of Subjects

Environmental protection, Agricultural commodities, Feed additives, Food additives, Pesticides and pests, Reporting and recordkeeping requirements.

Dated: May 28, 2010.
Daniel J. Rosenblatt,
Acting Director, Registration Division, Office of Pesticide Programs.

[FR Doc. 2010-13689 Filed 6-7-10; 8:45 am]

BILLING CODE 6560-50-S